DEPARTMENT OF THE INTERIOR

National Park Service

[NPS-WASO-NRNHL-DTS#-34012; PPWOCRADI0, PCU00RP14.R50000]

National Register of Historic Places; Notification of Pending Nominations and Related Actions

AGENCY: National Park Service, Interior.

ACTION: Notice.

SUMMARY: The National Park Service is soliciting electronic comments on the significance of properties nominated before May 28, 2022, for listing or related actions in the National Register of Historic Places.

DATES: Comments should be submitted electronically by June 22, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before May 28, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Maricopa County

Kiva Craft Center, 7121-7141 East 5th Ave., Scottsdale, SG100007876

HAWAII

Hawaii County

B. Ikeuchi & Sons, Inc. Property, 45-495 Māmane St., Honoka`a, SG100007882

IOWA

Van Buren County

Paine, Samuel and Mercy, House, 27421 Cty. Rd. J40, Bentonsport vicinity, SG100007880

NEW JERSEY

Burlington County

Fernbrook Historic District, 142-150 Bordentown-Georgetown Rd., Chesterfield Township, SG100007873

Mercer County

Carver Center, 40 Fowler St., Trenton, SG100007871

Morris County

Mount Vernon School, 24 Southern Blvd., Chatham Township, SG100007872

Union County

Shady Rest Golf and Country Club, 820 Jerusalem Rd., Scotch Plains Township, SG100007869

NEW MEXICO

Cibola County

St. Theresa Community Center, 400 East High St., Grants, SG100007877

NEW YORK

New York County

John James Audubon Houses, 1909 Amsterdam Ave., Manhattan, SG100007881

NORTH DAKOTA

Burleigh County

Highland Acres Historic District, Roughly bounded by Shafer St., Edwards Ave., the axis of Williams St., and South Highland Acres Rd., Bismarck, SG100007875

OHIO

Cuyahoga County

Nathaniel Hawthorne Elementary School, 3575 West 130th St., Cleveland, SG100007884

WISCONSIN

Jefferson County

Ajango, Helmut, House, 825 East St., Fort Atkinson, SG100007885

A request for removal has been made for the following resources:

NEW YORK

Suffolk County

West Meadow Beach Historic District, Trustees Rd., Stony Brook vicinity, OT04001195

WISCONSIN

Milwaukee County

Grant, Paul S. House, (Ernest Flagg Stone Masonry Houses of Milwaukee County TR), 984 East Circle Dr., Whitefish Bay, OT85002025

Additional documentation has been received for the following resource:

NEW YORK

Suffolk County

Bell, Mary E. House (Additional Documentation), 66 Railroad Ave., Center Moriches, AD100005831

Nomination submitted by Federal Preservation Officer:

The State Historic Preservation Officer reviewed the following nomination and responded to the Federal Preservation Officer within 45 days of receipt of the nomination and supports listing the property in the National Register of Historic Places.

MICHIGAN

Dickinson County

Iron Mountain Veterans Administration (VA) Hospital, (United States Third Generation Veterans Hospitals, 1946-1958 MPS), 325 East H St., Iron Mountain, MP100007870

Authority: Section 60.13 of 36 CFR part 60.

Dated: June 1, 2022.
Sherry A. Frear,
Chief, National Register of Historic Places/National Historic Landmarks Program.

[FR Doc. 2022-12210 Filed 6-6-22; 8:45 am]

BILLING CODE 4312-52-P